DEPARTMENT OF TRANSPORTATION

Federal Aviation Administration

14 CFR Part 39

[Docket No. FAA-2021-0652; Project Identifier MCAI-2020-00271-R; Amendment 39-21683; AD 2021-16-20]

RIN 2120-AA64

Airworthiness Directives; PZL Swidnik S.A. Helicopters

AGENCY: Federal Aviation Administration (FAA), DOT.

ACTION: Final rule; request for comments.

SUMMARY: The FAA is adopting a new airworthiness directive (AD) for certain PZL Swidnik S.A. Model PZL W-3A helicopters. This AD requires visually inspecting the bonding on a certain part-numbered fairing installed on a certain part-numbered vibration absorber, improving the bonding if necessary, using improved installation procedures to secure the fairing to the vibration absorber, and removing certain parts from service. This AD also prohibits installing the affected part unless it is inspected and installed per the AD requirements. This AD was prompted by a report of a broken bolt securing the fairing to the vibration absorber that resulted from an incorrect torque value for the nut used to secure the fairing to the vibration absorber. The FAA is issuing this AD to address the unsafe condition on these products.

DATES: This AD becomes effective August 26, 2021. The FAA must receive comments on this AD by October 12, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact WSK “PZL-Świdnik” S.A., Al. Lotników Polskich 1, 21-045 Świdnik, Poland; telephone (+48) 81722 5716; fax (+48) 81722 5625; email: PL-CustomerSupport.AW@leonardocompany.com; or at https://www.pzlswidnik.pl/en/home. You may view this service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2021-0652; or in person at Docket Operations between 9 a.m. and 5 p.m., Monday through Friday, except Federal holidays. The AD docket contains this AD, the European Union Aviation Safety Agency (EASA) AD, any comments received, and other information. The street address for Docket Operations is listed above.

FOR FURTHER INFORMATION CONTACT: Kristi Bradley, Program Manager, COS Program Management Section, Operational Safety Branch, Compliance & Airworthiness Division, FAA, 10101 Hillwood Pkwy., Fort Worth, TX 76177; telephone (817) 222-5110; email kristin.bradley@faa.gov.

SUPPLEMENTARY INFORMATION:

Background

EASA, which is the Technical Agent for the Member States of the European Union, has issued EASA AD 2020-0038, dated February 27, 2020 (EASA AD 2020-0038), to correct an unsafe condition for all serial-numbered Wytwórnia Sprzętu Komunikacyjnego (WSK) “PZL-Świdnik” Spółka Akcyjna (S.A.) Model PZL W-3A and PZL W-3AS helicopters. EASA AD 2020-0038 advises that a bolt part number (P/N) 3003A-6-16-3 was found broken on fairing P/N 30.23.015.00.03 installed on vibration absorber P/N 30.23.000.00.04. EASA states further investigations identified that the maintenance instructions detailing how to secure the affected parts did not include the torque value information to tighten the castellated nut P/N 3336A-6. EASA further states that this condition, if not corrected, could lead to detachment of the affected part from the helicopter and its subsequent contact with helicopter stationary or rotary parts, possibly resulting in damage to, and consequent reduced control of, the helicopter.

Accordingly, EASA AD 2020-0038 requires the use of improved installation instructions to secure the affected fairing to the vibration absorber.

FAA's Determination

These helicopters have been approved by EASA and are approved for operation in the United States. Pursuant to the FAA's bilateral agreement with the European Union, EASA has notified the FAA about the unsafe condition described in its AD. The FAA is issuing this AD after evaluating all known relevant information and determining that the unsafe condition described previously is likely to exist or develop on other helicopters of the same type design.

Related Service Information

The FAA reviewed WYTWÓRNIA SPRZĘTU KOMUNIKACYJNEGO “PZL-Świdnik” Spółka Akcyjna Alert Service Bulletin No. ASB-37-19-307, dated January 27, 2020. This service information specifies checking (inspecting) the bonding between the fairing and vibration absorber star for any nonconformity and improving the bonding if necessary. This service information also specifies the specific torque to be used to tighten the castellated nuts during installation of the fairing onto the vibration absorber.

AD Requirements

This AD requires, within 300 hours time-in-service after the effective date of this AD, removing from service each bolt P/N 3003A-6-16-3, washer P/N 3402A-1, and castellated nut P/N 3336A-6 that secure fairing P/N 30.23.015.00.03 to vibration absorber P/N 30.23.000.00.04, and inspecting the bonding between the fairing and vibration absorber to determine if there is any anodic coating. If there is anodic coating, this AD requires polishing the surface of the fairing where the washers make contact, burnishing the affected area using abrasive paper, and washing the surface with a cleaning solution. This AD then requires installing a new bolt, new washer, and new nut to connect the fairing to the vibration absorber. Additionally, this AD requires using a specified torque, torqueing each nut, locking each nut with a cotter pin, and if the specified torque cannot be accomplished, removing the washer and nut from service, installing airworthy parts, and reapplying torque. Finally, this AD prohibits installing an affected fairing or vibration absorber unless they meet the inspection and installation requirements of this AD.

Differences Between This AD and the EASA AD

EASA AD 2020-0038 applies to all serial-numbered Model PZL W-3A and PZL W-3AS helicopters, whereas this AD only applies to Model PZL W-3A helicopters with fairing part number (P/N) 30.23.015.00.03 installed on vibration absorber P/N 30.23.000.00.04 installed. This AD does not apply to Model PZL W-3AS helicopters because that model is not FAA type-certificated.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

There are no helicopters with this type certificate on the U.S. Registry. Accordingly, notice and opportunity for prior public comment are unnecessary, pursuant to 5 U.S.C. 553(b)(3)(B). In addition, for the foregoing reasons, the FAA finds that good cause exists pursuant to 5 U.S.C. 553(d) for making this amendment effective in less than 30 days.

Comments Invited

The FAA invites you to send any written data, views, or arguments about this final rule. Send your comments to an address listed under ADDRESSES. Include “Docket No. FAA-2021-0652; Project Identifier MCAI-2020-00271-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Kristi Bradley, Program Manager, COS Program Management Section, Operational Safety Branch, Compliance & Airworthiness Division, FAA, 10101 Hillwood Pkwy., Fort Worth, TX 76177; telephone (817) 222-5110; email kristin.bradley@faa.gov. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

There are no costs of compliance with this AD because there are no helicopters with this type certificate on the U.S. Registry.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-16-20 PZL Swidnik S.A.: Amendment 39-21683; Docket No. FAA-2021-0652; Project Identifier MCAI-2020-00271-R.

(a) Effective Date

This airworthiness directive (AD) is effective August 26, 2021.

(b) Affected ADs

None.

(c) Applicability

This AD applies to PZL Swidnik S.A. Model PZL W-3A helicopters, certificated in any category, with fairing part number (P/N) 30.23.015.00.03 installed on vibration absorber P/N 30.23.000.00.04 installed.

(d) Subject

Joint Aircraft Service Component (JASC) Code: 6200, Main Rotor System.

(e) Unsafe Condition

This AD defines the unsafe condition as improper torque of a bolt securing the fairing to the vibration absorber due to lack of information regarding torque value for the nut. This condition could result in detachment of the fairing, causing damage to the main and tail rotor, and subsequent reduced control of the helicopter.

(f) Compliance

Comply with this AD within the compliance times specified, unless already done.

(g) Required Actions

Within 300 hours time in service after the effective date of this AD:

(1) Remove from service each bolt P/N 3003A-6-16-3, washer P/N 3402A-1, and castellated nut P/N 3336A-6 that secure the fairing to the vibration absorber.

(2) Visually inspect the bonding between the fairing and the vibration absorber for anodic coating. If there is any anodic coating, before further flight,

(i) Polish the surface of the fairing and vibration absorber in all areas where washers make contact to remove all anodic coating.

(ii) Using 180-220 grit abrasive paper, burnish the surface to improve bonding.

(iii) Wash the surface with extraction naphtha, or equivalent cleaning solution.

(3) Insert a new bolt P/N 3003A-6-16-3 and a new washer P/N 3402A-1 into each hole connecting the fairing to the vibration absorber.

(4) At the vibration absorber star side, install a new washer P/N 3402A-1, and a new castellated nut P/N 3336A-6 onto each bolt. Torque each castellated nut to 5.4 ± 1.0 Nm (0.55 ± 0.10 kGm) and lock each castellated nut with a cotter pin. If the specified torque range cannot be accomplished, remove the washer, bolt, and nut from service, replace these parts with airworthy parts, and reapply torque.

(5) As of the effective date of this AD, do not install vibration absorber P/N 30.23.000.00.04 with a fairing P/N 30.23.015.00.03 on any helicopter unless they are inspected as required by paragraph (g)(2) of this AD and installed as required by paragraphs (g)(3) and (4) of this AD.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i)(1) of this AD. Information may be emailed to: 9-AVS-AIR-730-AMOC@faa.gov.

(2) Before using any approved AMOC, notify your appropriate principal inspector, or lacking a principal inspector, the manager of the local flight standards district office/certificate holding district office.

(i) Related Information

(1) For more information about this AD, contact Kristi Bradley, Program Manager, COS Program Management Section, Operational Safety Branch, Compliance & Airworthiness Division, FAA, 10101 Hillwood Pkwy., Fort Worth, TX 76177; telephone (817) 222-5110; email kristin.bradley@faa.gov.

(2) WYTWÓRNIA SPRZĘTU KOMUNIKACYJNEGO “PZL-Świdnik” Spółka Akcyjna Alert Service Bulletin No. ASB-37-19-307, dated January 27, 2020, which is not incorporated by reference, contains additional information about the subject of this AD. For service information identified in this AD, contact WSK “PZL-Świdnik” S.A., Al. Lotników Polskich 1, 21-045 Świdnik, Poland; telephone (+48) 81722 5716; fax (+48) 81722 5625; email: PL-CustomerSupport.AW@leonardocompany.com; or at https://www.pzlswidnik.pl/en/home.

(3) The subject of this AD is addressed in European Union Aviation Safety Agency (EASA) AD 2020-0038, dated February 27, 2020. You may view EASA AD 2020-0038 at https://www.regulations.gov in Docket No. FAA-2021-0652.

(j) Incorporation by Reference

None.

Issued on July 30, 2021.
Ross Landes,
Deputy Director for Regulatory Operations, Compliance & Airworthiness Division, Aircraft Certification Service.

[FR Doc. 2021-17025 Filed 8-10-21; 8:45 am]

BILLING CODE 4910-13-P